DEPARTMENT OF THE INTERIOR

National Park Service

Availability of Booker T. Washington National Monument Abbreviated Final General Management Plan and Environmental Impact Statement

AGENCY: National Park Service, Department of the Interior.

ACTION: Notice of Availability of Booker T. Washington National Monument Abbreviated Final General Management Plan and Environmental Impact Statement.

SUMMARY: The National Park Service has prepared and released an Abbreviated Final General Management Plan and Environmental Impact Statement for the management, protection, use, and development of Booker T. Washington National Monument in Hardy, Virginia. A record of decision will be signed by the Regional Director, Northeast Region, National Park Service thirty days after this notice is published in the Federal Register. Copies of the Booker T. Washington National Monument Abbreviated Final General Management Plan and Environmental Impact Statement are available at Booker T. Washington National Monument and at the Franklin County Public Library in Rocky Mount, Virginia. The document can be viewed on the monument's web site (http://www.nps.gov/bowa).

For more information, contact the Superintendent, Booker T. Washington National Monument, 12130 Booker T. Washington Highway, Hardy, VA 24101-9688. The superintendent's phone number is 540-721-2094.

Dated: December 17, 1999.
Dale Ditmanson,
Associate Regional Director, Operations, NER.

[FR Doc. 00-2611 Filed 2-4-00; 8:45 am]

BILLING CODE 4310-70-P